DEPARTMENT OF HOUSING AND URBAN DEVELOPMENT

[Docket No. FR-5123-N-02]

Notice of Proposed Information Collection for Public Comment: Information on the Current Status of Homebuyers Assisted Through the HOME and American Dream Downpayment Initiative (ADDI) Programs

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: May 1, 2007.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 204107-5000.

FOR FURTHER INFORMATION CONTACT: Harold R. Holzman, (202) 708-0614, extension 5709 for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Information on the Current Status of Homebuyers Assisted through the HOME and American Dream Downpayment Initiative (ADDI) Programs.

Description of the need for the information and proposed use: This request is for the clearance of a survey on a sample of homebuyers assisted through the HOME and ADDI programs during calendar years 2000 through 2005. The purpose of the survey is to provide a statistically reliable estimate of the incidence of payment delinquency and foreclosure experienced by these homebuyers in response to a request from Congress for this information. The survey will select a sample of city, county, and state governmental organizations that participate in the HOME and ADDI programs (“Participating Jurisdictions” or “PJ”) in each year from 2000 to 2005 to provide information on up to 50 homebuyers assisted in that year. The information will supplement information routinely reported to HUD on the homebuyers characteristics and will indicate whether the PJ has had any indication that the homebuyer has experienced payment delinquency and/or foreclosure. A total of 33 PJs will be sampled for each of these years to provide information on up to 50 assisted homebuyers. Since PJs may be selected for more than one year, a total of 129 PJs are to be sampled out of a total of 423 PJs eligible for the survey.

OMB Approval Number: Pending.

Agency Form Numbers: None.

Members of Affected Public: City, County and State governmental organizations receiving funding through the HOME and ADDI programs.

Estimation of the total number of hours needed to prepare the information collection including number of respondents, frequency of response, and hours of response: 129 Participating Jurisdictions will be surveyed and asked to provide information on a total of 6,539 homebuyers assisted through the HOME and ADDI programs. Average time to complete the survey will be 12.0 hours (720 minutes) per respondent. Respondents will only be contacted once. Total burden hours are 1,548.

Status of the proposed information collection: Pending OMB approval.

Authority: Section 3506 of the Paperwork Reduction Act of 1995, 44 U.S.C. Chapter 35, as amended.

Dated: February 23, 2007.
Darlene F. Williams,
Assistant Secretary for Policy Development and Research.

[FR Doc. 07-975 Filed 3-1-07; 8:45 am]

BILLING CODE 4210-67-M